DEPARTMENT OF COMMERCE

National Oceanic and Atmospheric Administration

[RTID 0648-XE111]

South Atlantic Fishery Management Council; Public Meetings

AGENCY: National Marine Fisheries Service (NMFS), National Oceanic and Atmospheric Administration (NOAA), Commerce.

ACTION: Notice of public hearings.

SUMMARY: The South Atlantic Fishery Management Council (Council) will hold two virtual public hearings pertaining to Amendment 55 to the Fishery Management Plan (FMP) for the Snapper Grouper Fishery in the South Atlantic Region. This amendment establishes a Scamp and Yellowmouth Complex, establishes a rebuilding plan, catch levels, sector allocations, management measures, and accountability measures for the new complex. The amendment also updates the composition and catch levels of the Other South Atlantic Shallow Water Grouper Complex.

DATES: The public hearings will take place August 13, 2024 and August 14, 2024, beginning at 6 p.m., EDT. For specific dates and times, see SUPPLEMENTARY INFORMATION.

ADDRESSES: The hearings will be held via webinar. Webinar registration information is available from the Council's website at: https://safmc.net/events/august-2024-public-hearings-snapper-grouper-amendment-55/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Public hearing documents, an online public comment form, and other materials will be posted to the Council's website at https://safmc.net/events/august-2024-public-hearings-snapper-grouper-amendment-55/ as they become available. Written comments should be addressed to John Carmichael, Executive Director, SAFMC, 4055 Faber Place Drive, Suite 201, N Charleston, SC 29405. Written comments must be received by August 16, 2024, by 5 p.m. During the hearings, Council staff will provide an overview of actions being considered in the amendment. Staff will answer clarifying questions on the presented information and the proposed actions. Following the presentation and questions, the public will have the opportunity to provide comments on the amendment.

Amendment 55 to the Snapper Grouper FMP

The most recent stock assessment (SEDAR 68) assessed scamp and yellowmouth grouper combined due to misidentification between the two species and indicated that the stock is overfished but not subject to overfishing. In response to this assessment the Council will need to establish the Scamp Yellowmouth Grouper Complex (which entails adjusting the composition and catch levels of the Other Shallow Water Grouper Complex), establish stock determination criteria for the new complex, a rebuilding plan, annual catch limits, management measures, allocations and sector annual catch limits, and accountability measures.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: July 19, 2024.
Rey Israel Marquez,
Acting Deputy Director, Office of Sustainable Fisheries, National Marine Fisheries Service.

[FR Doc. 2024-16261 Filed 7-23-24; 8:45 am]

BILLING CODE 3510-22-P